DEPARTMENT OF HOMELAND SECURITY

Federal Emergency Management Agency

[Docket ID FEMA-2026-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator, Federal Insurance Directorate, Resilience has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Date of modification | Community No.
Arizona:
Coconino (FEMA Docket No.: B-2555). | Unincorporated areas of Coconino County (24-09-0306P). | The Honorable Patrice Horstman, Chair of the Board, Coconino County, 219 East Cherry Avenue, Flagstaff, AZ 86001. | Coconino County Community Development, 2500 North Fort Valley Road, Building 1, Flagstaff, AZ 86001. | Oct. 17, 2025 | 040019
Maricopa (FEMA Docket No.: B-2555). | City of Buckeye (24-09-0657P). | The Honorable Eric Orsborn, Mayor, City of Buckeye, 530 East Monroe Avenue, Buckeye, AZ 85326. | City Hall, 530 East Monroe Avenue, Buckeye, AZ 85326. | Oct. 14, 2025 | 040039
Maricopa (FEMA Docket No.: B-2555). | City of Peoria (24-09-0480P). | The Honorable Jason Beck, Mayor, City of Peoria, 8401 West Monroe Street, Peoria, AZ 85345. | City Hall, 8401 West Monroe Street, Peoria, AZ 85345. | Oct. 24, 2025 | 040050
California:
Riverside (FEMA Docket No.: B-2555). | City of Menifee (24-09-0974P). | Armando G. Villa, City Manager, City of Menifee, 29844 Haun Road, Menifee, CA 92586. | City Hall, 29844 Haun Road, Menifee, CA 92586. | Nov. 17, 2025 | 060176
Riverside (FEMA Docket No.: B-2555). | City of Murrieta (24-09-0974P). | The Honorable Cindy Warren, Mayor, City of Murrieta, 1 Town Square, Murrieta, CA 92562. | City Hall, 1 Town Square, Murrieta, CA 92562. | Nov. 17, 2025 | 060751
Riverside (FEMA Docket No.: B-2555). | City of Palm Desert (25-09-0300P). | The Honorable Jan C. Harnik, Mayor, City of Palm Desert, 73510 Fred Waring Drive, Palm Desert, CA 92260. | City Hall, 73510 Fred Waring Drive, Palm Desert, CA 92260. | Oct. 29, 2025 | 060629
Riverside (FEMA Docket No.: B-2555). | City of Perris (25-09-0170P). | The Honorable Michael Vargas, Mayor, City of Perris, 101 North D Street, Perris, CA 92570. | Engineering Department, 24 South D Street, Suite 100, Perris, CA 92570. | Nov. 17, 2025 | 060258
Riverside (FEMA Docket No.: B-2555). | Unincorporated areas of Riverside County (24-09-0974P). | The Honorable V. Manuel Perez, Chair, Riverside County Board of Supervisors, 4080 Lemon Street, 5th Floor, Riverside, CA 92501. | Riverside County Flood Control and Water Conservation District, 1995 Market Street, Riverside, CA 92501. | Nov. 17, 2025 | 060245
San Diego (FEMA Docket No.: B-2555). | City of San Diego (24-09-0229P). | The Honorable Todd Gloria, Mayor, City of San Diego, 202 C Street, 11th Floor, San Diego, CA 92101. | Stormwater Department, 9370 Chesapeake Drive, Suite 100, San Diego, CA 92123. | Oct. 27, 2025 | 060295
San Diego (FEMA Docket No.: B-2555). | Unincorporated areas of San Diego County (24-09-0229P). | The Honorable Ebony N. Shelton, Chief Administrative Officer, San Diego County, 1600 Pacific Highway, Room 209, San Diego, CA 92101. | San Diego County, Survey Records Counter, 5510 Overland Avenue, Suite 300, San Diego, CA 92123. | Oct. 27, 2025 | 060284
San Joaquin (FEMA Docket No.: B-2555). | City of Stockton (25-09-0082P). | Steve Colangelo, Interim City Manager, City of Stockton, 425 North El Dorado Street, Stockton, CA 95202. | Community Development-Building Department, 345 North El Dorado Street, Stockton, CA 95202. | Oct. 27, 2025 | 060302
San Joaquin (FEMA Docket No.: B-2555). | Unincorporated areas of San Joaquin County (25-09-0082P). | The Honorable Paul Canepa, Chair, San Joaquin County Board of Supervisors, 44 North San Joaquin Street, 6th Floor, Suite 627, Stockton, CA 95202. | San Joaquin County, Public Works Department, 1810 East Hazelton Avenue, Stockton, CA 95205. | Oct. 27, 2025 | 060299
Colorado:
Adams (FEMA Docket No.: B-2555). | Unincorporated areas of Adams County (23-08-0746P). | The Honorable Lynn Baca, Chair, Adams County Board of Commissioners, 4430 South Adams County Parkway, 5th Floor, Suite C5000A, Brighton, CO 80601. | Adams County Community and Economic Development, 4430 South Adams County Parkway, 1st Floor, Suite W2000, Brighton, CO 80601. | Oct. 30, 2025 | 080001
Arapahoe (FEMA Docket No.: B-2555). | City of Aurora (24-08-0262P). | The Honorable Mike Coffman, Mayor, City of Aurora, 15151 East Alameda Parkway, Aurora, CO 80012. | Engineering Department, 15151 East Alameda Parkway, Aurora, CO 80012. | Oct. 17, 2025 | 080002
Arapahoe (FEMA Docket No.: B-2555). | City of Littleton (24-08-0533P). | The Honorable Kyle Schlachter, Mayor, City of Littleton, 2255 West Berry Avenue, Littleton, CO 80120. | Public Works Department, 2255 West Berry Avenue, Littleton, CO 80120. | Nov. 7, 2025 | 080017
Jefferson (FEMA Docket No.: B-2555). | City of Arvada (23-08-0746P). | The Honorable Lauren Simpson, Mayor, City of Arvada, 8101 Ralston Road, Arvada, CO 80002. | Engineering Division, 8101 Ralston Road, Arvada, CO 80002. | Oct. 30, 2025 | 085072
Larimer (FEMA Docket No.: B-2555). | City of Fort Collins (25-08-0506P). | Kelly DiMartino, City Manager, City of Fort Collins, P.O. Box 580, Fort Collins, CO 80522. | Stormwater Engineering and Floodplain Administration, Utility Service Center (USC), 700 Wood Street, Fort Collins, CO 80521. | Oct. 16, 2025 | 080102
Larimer (FEMA Docket No.: B-2555). | Unincorporated areas of Larimer County (25-08-0506P). | Lorenda Volker, County Manager, Larimer County, P.O. Box 1190, Fort Collins, CO 80522. | Larimer County Administrative Services Engineering Department, 200 West Oak Street, Suite 3000, Fort Collins, CO 80521. | Oct. 16, 2025 | 080101
Mesa (FEMA Docket No.: B-2555). | City of Grand Junction (24-08-0315P). | Michael Bennett, City of Grand Junction Manager, 250 North 5th Street, Grand Junction, CO 81501. | Engineering Division, 244 North 7th Street, Grand Junction, CO 81501. | Oct. 30, 2025 | 080117
Weld (FEMA Docket No.: B-2555). | Unincorporated areas of Weld County (25-08-0071P). | The Honorable Perry Buck, Chair, Weld County Board of Commissioners, P.O. Box 758, Greeley, CO 80632. | Weld County Administrative Building, 1150 O Street, Greeley, CO 80631. | Oct. 27, 2025 | 080266
Idaho: Blaine (FEMA Docket No.: B-2555). | City of Hailey (24-10-0547P). | The Honorable Martha Burke, Mayor, City of Hailey, 115 Main Street South, Hailey, ID 83333. | City Hall, 115 Main Street South, Hailey, ID 83333. | Oct. 16, 2025 | 160022
South Dakota:
Meade (FEMA Docket No.: B-2555). | City of Sturgis (24-08-0256P). | The Honorable Kevin Forrester, Mayor, City of Sturgis, 1040 Harley-Davidson Way, Sturgis, SD 57785. | Public Works Department, 1057 Dudley Street, Sturgis, SD 57785. | Oct. 22, 2025 | 460055
Pennington (FEMA Docket No.: B-2555). | City of Box Elder (24-08-0531P). | The Honorable Larry Larson, Mayor, City of Box Elder, 420 Villa Drive, Box Elder, SD 57719. | City Hall, 420 Villa Drive, Box Elder, SD 57719. | Oct. 24, 2025 | 460089
Pennington (FEMA Docket No.: B-2555). | Unincorporated areas of Pennington County (24-08-0531P). | The Honorable Ron Weifenbach, Chair, Pennington County Board of Commissioners, P.O. Box 6160, Rapid City, SD 57709. | Pennington County Administration Building, 130 Kansas City Street, Rapid City, SD 57701. | Oct. 24, 2025 | 460064
Utah:
Davis (FEMA Docket No.: B-2555). | City of Layton (24-08-0648P). | The Honorable Joy Petro, Mayor, City of Layton, 437 North Wasatch Drive, Layton, UT 84041. | Engineering Division, 437 North Wasatch Drive, Layton, UT 84041. | Oct. 28, 2025 | 490047
Davis (FEMA Docket No.: B-2555). | Unincorporated areas of Davis County (24-08-0648P). | The Honorable Lorene Miner Kamalu, Chair, Davis County Board of Commissioners, P.O. Box 618, Farmington, UT 84025. | Davis County, Community and Economic Development Department, 61 South Main Street, Farmington, UT 84025. | Oct. 28, 2025 | 490038

[FR Doc. 2026-01744 Filed 1-28-26; 8:45 am]

BILLING CODE 9110-12-P